DEPARTMENT OF HEALTH AND HUMAN SERVICES

Office of the Secretary

Findings of Research Misconduct; Correction

AGENCY: Office of the Secretary, HHS.

ACTION: Correction of notice.

SUMMARY: This document corrects an error that appeared in the notice published in the November 27, 2017, Federal Register entitled “Findings of Research Misconduct.”

DATES:

Effective Date: January 3, 2018.

Applicability Date: The correction notice is applicable for the Findings of Research Misconduct notice published on November 27, 2017.

FOR FURTHER INFORMATION CONTACT: Ms. Karen Gorirossi at 240-453-8800.

SUPPLEMENTARY INFORMATION:

I. Background

In FR Doc. 2017-25549 of November 27, 2017 (82 FR 56042-56043), there was a referencing error involving incorrect citation of a paper in the notice. The error is identified and corrected in the Correction of Errors section below.

II. Correction of Errors

In FR Doc. 2017-25549 of November 27, 2017 (82 FR 56042-56043), make the following corrections:

1. On page 56042, third column, in FR Doc. 2017-25549, last paragraph, lines 16-26, and page 56043, first paragraph, lines 1-5, delete “Respondent engaged in research misconduct at ESOM and falsified RT-PCR data on Excel spreadsheets in the research record and in a figure generated from the false data included in a manuscript submitted to and withdrawn from Scientific Reports (“Immipramine Blue Sensitively and Selectively Targets FLT3-ITD Positive Acute Myeloid Leukemia Cells.” Scientific Reports 7(1):4447, 2017 June 30; doi:10.1038/s41598-017-04796-1. PMID: 28667329. Submitted to Scientific Reports [withdrawn]; hereafter referred to as the “Scientific Reports manuscript”)” and replace with the following text: “Respondent engaged in research misconduct at ESOM and falsified RT-PCR data on Excel spreadsheets in the research record and in a figure generated from the false data included in an unpublished manuscript submitted to and withdrawn from Scientific Reports [withdrawn]; hereafter referred to as the “Scientific Reports manuscript.” ”

2. On page 56043, first column, in FR Doc. 2017-25549, fourth paragraph (second bullet), lines 6-7, insert “unpublished” before “Scientific Reports” so that the text reads: “included false data in the unpublished Scientific Reports manuscript.”

Dated: December 20, 2017.
Wanda K. Jones,
Interim Director, Office of Research Integrity.

[FR Doc. 2017-28409 Filed 1-2-18; 8:45 am]

BILLING CODE 4150-31-P